NATIONAL AERONAUTICS AND SPACE ADMINISTRATION

[Notice 12-080]

NASA Advisory Council; Aeronautics Committee; Meeting

AGENCY: National Aeronautics and Space Administration.

ACTION: Notice of Meeting.

SUMMARY: In accordance with the Federal Advisory Committee Act, Public Law 92-463, as amended, the National Aeronautics and Space Administration announces a meeting of the Aeronautics Committee of the NASA Advisory Council. The meeting will be held for the purpose of soliciting, from the aeronautics community and other persons, research and technical information relevant to program planning.

DATES: Thursday, October 25, 2012, 8 a.m. to 3 p.m.; and Friday, October 26, 2012, 8 a.m. to 12:15 p.m., Local Time.

ADDRESSES: Ohio Aerospace Institute (OAI); 22800 Cedar Point Road; Conference Room: The President's Room; Cleveland, OH 44142.

FOR FURTHER INFORMATION CONTACT: Ms. Susan L. Minor, Executive Secretary for the Aeronautics Committee, National Aeronautics and Space Administration Headquarters, Washington, DC 20546, (202) 358-0566, or susan.l.minor@nasa.gov.

SUPPLEMENTARY INFORMATION: The meeting will be open to the public up to the capacity of the room. Any person interested in participating in the meeting by Webex and telephone should contact Ms. Susan L. Minor at (202) 358-0566 for the web link, toll-free number, and passcode. The agenda for the meeting includes the following topics:

• Glenn Research Center Overview

• NASA Aeronautics and National Research Council interactions

• Aviation Safety Research and Development

• Aeronautics Test Facilities Status

• Unmanned Aircraft Systems Subcommittee Outbrief

• Environmentally Responsible Aviation Phase 2 Status

It is imperative that these meetings be held on this date to accommodate the scheduling priorities of the key participants. For questions, please contact Brunilda DeJesus at (216) 433-2789 or Brunilda.DeJesus@nasa.gov.

Susan M. Burch,
Acting Advisory Committee Management Officer, National Aeronautics and Space Administration.

[FR Doc. 2012-24743 Filed 10-5-12; 8:45 am]

BILLING CODE 7510-13-P